FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

DW Associates Inc. dba ABLECARGO.COM, 2445 Morena Blvd., Suite 203, San Diego, CA 92110-4157, Officer: Douglas B. White, President (Qualifying Individual)

LN Navigation (USA), Inc., 1120 Walnut Street, San Gabriel, CA 91776, Officers: Wendy Luong, President (Qualifying Individual) Barry Lam, CFO

KTL International, Inc., 2613 Greenleaf Avenue, Elk Grove Village, IL 60007, Officer: Hyung Sup Kim, President (Qualifying Individual)

Gateway Logistics International Inc., 147-31 176th Street, Jamaica, NY 11434, Officers: Smit Intarapuvasak, President (Qualifying Individual) Ittinan Intarapuvasak, Secretary

Non-Vessel Operating Common Carrier and Ocean Freight Forwarder Transportation Intermediary Applicant

ECO Freight International Corporation, 5422 W. Rosecrans Avenue, Hawthorne, CA 90250, Officers: Takaaki Yagi, President (Qualifying Individual) Hiroko Yaki, Director

Dated: September 7, 2001.
Bryant L. VanBrakle,
Secretary.

[FR Doc. 01-22922 Filed 9-11-01; 8:45 am]

BILLING CODE 6730-01-P